DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Proposed Project: Cross-site Evaluation of the Garrett Lee Smith Memorial Suicide Prevention and Early Intervention Programs—New

The Substance Abuse and Mental Health Services Administration's (SAMHSA), Center for Mental Health Services (CMHS) will conduct the cross-site evaluation of the Garrett Lee Smith Memorial Suicide Prevention and Early Intervention State/Tribal Programs and the Garrett Lee Smith Memorial Suicide Prevention Campus Programs. The data collected through the cross-site evaluation will address four stages of program activity: (1) The context stage will assess the existing databases and availability of data sources, (2) the product stage will describe the products and services that are developed and utilized by these programs, (3) the process stage will assess the progress on key activities and milestones related to implementation of program plans, and (4) the impact stage will assess the impact of program activities on youth/students, gatekeepers, faculty/staff, and program partners within States/Tribal sites and campus sites. In addition, enhanced evaluation efforts are planned for the Tennessee Lives Count Suicide Prevention Program. The purpose of the enhanced evaluation is to expand upon self-evaluation and cross-site evaluation efforts to evaluate medium- and long-term outcomes associate with suicide prevention program activities.

There are 36 State/Tribal programs and 55 Campus programs participating in the cross-site evaluation. Data will be collected from suicide prevention program staff (project directors, evaluators), key program stakeholders (state/local officials, child-serving agency directors, gatekeepers, mental health providers, campus administrators), training participants, college students, and campus faculty/staff. Data collection for the cross-site evaluation will be conducted over a three-year period that spans FY2007 through FY2009. Because the State/Tribal grantees differ from the campus grantees in programmatic approaches, specific data collection activities also vary by type of program. The following describes the specific data collection activities and the sixteen data collection instruments to be used, followed by a summary table of number of respondents and respondent burden:

• Existing Database Inventory (2 versions). The Existing Database Inventory includes two versions to be administered to one respondent from (1) The 36 State/Tribal grantees and (2) the 55 Campus grantees. The Existing Database Inventory will be completed once in year one and once in year three of the cross-site evaluation by program staff. The questions included assess the availability of existing data, the integration of data systems, and the data elements that may or may not be collected in each system. The Existing Database Inventory will take approximately 30 minutes to complete and the number of existing databases within each grantee site will determine the number of items to complete. Questions on the Existing Database Inventory are open-ended and multiple choice.

• Product and Services Inventory-State/Tribal (2 versions). The Product and Services Inventory for State/Tribal grantees includes 2 versions. The State/Tribal grantees will complete the State/Tribal Product and Services Inventory-Baseline version once in year one of the cross-site evaluation and the State/Tribal Product and Services Inventory-Follow-up version quarterly thereafter in years two and three. The baseline version assesses the development and utilization of products and services during the first year of grant funding, and the follow-up version updates the development of products and services on a quarterly basis. These products and services may include awareness campaign products and materials; risk identification training materials and workshops; and enhanced services, including early intervention, family support, and postsuicide intervention services, as well as evidence-based programs. Both versions of the State/Tribal Product and Services Inventory will take approximately 45 minutes and the number of products and services developed and utilized within each grantee site will determine the number of items to complete. Questions on both versions of the State/Tribal Product and Services Inventory are open-ended and multiple choice.

• Product and Services Inventory-Campus (2 versions). The Product and Services Inventory for Campus grantees includes 2 versions. The Campus grantees will complete the Campus Product and Services Inventory-Baseline version once in year one of the cross-site evaluation and will complete the Campus Product and Services Inventory-Follow-up version quarterly thereafter in years two and three. The baseline version assesses the development and utilization of products and services during the first year of grant funding, and the follow-up version updates the development of products and services on a quarterly basis. These products and services may include awareness campaign products and materials; risk identification training materials and workshops; and enhanced services, including early intervention, family support, and postsuicide intervention services, as well as evidence-based programs. Both versions of the Campus Product and Services Inventory will take approximately 45 minutes and the number of products and services developed and utilized within each grantee site will determine the number of items to complete. Questions on both versions of the State/Tribal Product and Services Inventory are open-ended and multiple choice.

• Referral Network Survey (1 version). The Referral Network Survey will be administered to representatives of organizations and/or agencies involved in the referral networks that support the 36 State/Tribal suicide prevention programs. The 14 State/Tribal grantees funded in October 2005 will receive two administrations of the Referral Network Survey and the 22 State/Tribal grantees funded in June and October 2006 will receive 3 administrations. It is estimated that for each of the 36 State/Tribal referral networks, there are approximately 20 agencies/organizations involved. Therefore, assuming 2 appropriate respondents per agency/organizations and an 80% response rate, we estimated that 3,008 respondents would complete the Referral Network Survey, or 1,003 annually. The questions included on the Referral Network Survey will describe the referral networks, the agencies and organizations involved and at what level and the types of agency agreements and protocols are in place to support youth who are identified at risk for suicide. Questions on the Referral Network Survey include multiple-choice, Likert-scale, and open-ended. The Referral Network Survey includes 37 items and will take approximately 40 minutes to complete.

• Training Exit Survey (1 version). The Training Exit Survey will be administered to participants in suicide prevention training activities held in the 36 State/Tribal sites following their participation in training activities. It is estimated that approximately 1,000 per State/Tribal site will be trained in suicide prevention. As such, data will be collected from approximately 36,000 training participants, or 12,000 per year, one time immediately following their training experience in each year of the cross-site evaluation. The questions on the Training Exit Survey obtain information to assess the content of the training, the participants' intended use of the skills and knowledge learned, and satisfaction with the training experience. Questions on the Training Exit Survey include multiple-choice, Likert-scale, and open-ended. The Training Exit Survey includes 29 items and will take approximately 10 minutes to complete.

• Training Utilization and Penetration (TUP) Key Informant Interview (1 version). The TUP Key Informant Interview is a qualitative follow-up interview administered to individuals who participated in training activities as part of the State/Tribal suicide prevention programs. One training activity will be identified per year in each of the 36 State/Tribal sites and ten key informants who completed the selected training will be randomly selected for participation, for a total of 360 respondents per year. The TUP will be administered within two months of the training experience to assess whether the suicide prevention knowledge, skills and/or techniques learned through training were utilized and had an impact on youth. The interviews will include close-ended background questions, with the remaining questions being open-ended and semi-structured. The TUP includes 23 items and will take approximately 40 minutes to complete.

• Suicide Prevention Exposure, Awareness and Knowledge Survey (SPEAKS)—Student Version (1 version). The SPEAKS-Student version assesses the exposure, awareness and knowledge of suicide prevention activities among the student population on campus as result of the suicide prevention program. Questions include whether students have been exposed to suicide prevention materials, their agreement with myths and facts about suicide, and the availability of resources to provide assistance to those at risk for suicide. The 21 Campus grantees funded in FY 2006 will receive two administrations of the SPEAKS-Student Version (one in each remaining year of their grant funding) and the 34 Campus grantees funded in FY 2007 will receive three administrations (one in each year of grant funding). The SPEAKS-Student Version will be administered to 28,800 respondents, or 9,600, per year. A random sample of students will be drawn without replacement in each year of administration. The SPEAKS-Student Version is web-based and includes multiple-choice, Likert-scale and true/false questions. The SPEAKS-Student Version includes 54 items and will take approximately 15 minutes to complete.

• Suicide Prevention Exposure, Awareness and Knowledge Survey (SPEAKS)-Faculty/Staff Version (1 version). The SPEAKS-Faculty/Staff version assesses the exposure, awareness and knowledge of suicide prevention activities among faculty/staff on campus as result of the suicide prevention program. Questions include whether faculty/staff have been exposed to suicide prevention materials, their agreement with myths and facts about suicide, and the availability of resources to provide assistance to those at risk for suicide. The 21 Campus grantees funded in FY 2006 will be administered the survey twice (in each of the remaining years of grant funding) and the 34 Campus grantees funded in FY 2007 will receive three administrations (one in each remaining year of grant funding). A sampling plan to obtain 50 faculty/staff respondents in each of the 55 Campus grantee sites for a total of 7,200 total respondents, or 2,400 per year, will be developed by the cross-site evaluation team. A random sample of faculty/staff will be drawn without replacement in each year of administration. The SPEAKS-Faculty/Staff Version is web-based and includes multiple-choice, Likert-scale and true/false questions. The SPEAKS-Faculty/Staff Version includes 52 items and will take approximately 15 minutes to complete.

• Campus Infrastructure Interviews (4 versions). The Campus Infrastructure Interviews include 4 versions of the qualitative interviews to be administered to five different respondent types; (1) Administrator, (2) Student Group Leader, (3) Counseling Center Staff, (4) Faculty/Staff-human services department, and (5) Faculty/Staff-non-human service department. Five individuals from each of the 55 Campus sites will be selected as key informants to participate in the Campus Infrastructure Interview either in year two or in year three of the cross-site evaluation, for a total of 260 respondents. Questions on the Campus Infrastructure Interview include whether respondents are aware of suicide prevention activities, what the campus culture is related to suicide prevention, and what specific efforts are in place to prevent suicide among the campus population. Questions will include close-ended background questions, with the remaining questions being open-ended and semi-structured. The Campus Infrastructure Interviews include 29 items and will take approximately 60 minutes to complete.

• Tennessee Lives Count Six-Month Follow-up Survey (1 version). The six-month follow-up survey is administered as part of the enhanced evaluation. A random sample of training participants involved in the Tennessee Lives Count Suicide Prevention program will be contacted six months post training to complete the survey. Based on the sampling scheme, the six-month follow-up survey will be administered to 466 individuals per year for a total of 1,398 total respondents. The survey requests information on proximal outcomes, such as knowledge, skills, and attitudes of professionals working with at-risk youth as a result of their training experiences. The survey includes multiple-choice, likert scale, and open-ended. There are 59 items and it will take approximately 15 minutes for completion.

In addition to the above described data collection activities, data from existing sources (i.e., management information systems (MIS), administrative records, case files, etc.) will be analyzed across grantee sites to support the impact stage of the cross-site evaluation. Specifically, for the cross-site evaluation of the State/Tribal Programs, existing program information related to the number of youth identified at risk as a result of screening or early identification activities, the youth who are referred for services, and the youth who present for services will be analyzed by the cross-site evaluation team to determine the impact of suicide prevention program activities. For the cross-site evaluation of the Campus programs, existing program data related to the number of students who are at risk for suicide, the number who seek services, and the type of services received will be analyzed to determine the impact of Campus program activities on the student and campus populations. Because this information is obtained through existing sources, data collection instruments were not developed as part of the cross-site evaluation and no identifiable respondents exist; therefore no respondent burden has been estimated.

Internet-based technology will be used for collecting data via Web-based surveys, and for data entry and management. The average annual respondent burden is estimated below. The estimate reflects the total respondents across project years, the average annual number of respondents, the average annual number of responses, the time it will take for each response, and the average annual burden.

Total and Annual Averages: Respondents, Responses and Hours
Measure name | No. of respondents | No. of responses/respondent | Hours/response | Response burden*
Existing Database Inventory-State version | 36 | 1 | 0.5 | 18
Existing Database Inventory-Campus version | 55 | 1 | 0.5 | 28
Product and Services Inventory-State version-baseline | 36 | 1 | 0.75 | 27
Product and Services Inventory-State version-follow-up | 36 | 2 | 0.75 | 54
Product and Services Inventory-Campus version-baseline | 55 | 1 | 0.75 | 41
Product and Services Inventory-Campus version-follow-up | 55 | 2 | 0.75 | 41
Training Exit Survey | 12,000 | 1 | 0.17 | 2040
Training Utilization and Penetration (TUP) Key Informant Interview | 360 | 1 | 0.67 | 241
Referral Network Survey | 1,003 | 1 | 0.67 | 672
Suicide Prevention Exposure, Awareness and Knowledge Survey-Student Version (SPEAKS-S) | 9,600 | 1 | 0.25 | 2400
Suicide Prevention Exposure, Awareness and Knowledge Survey-Faculty/Staff (SPEAKS-FS) | 2,400 | 1 | 0.25 | 600
Campus Infrastructure Interview-Student Leader Version | 18 | 1 | 1 | 18
Campus Infrastructure Interview-Faculty/Staff Version | 37 | 1 | 1 | 37
Campus Infrastructure Interview-Administrator Version | 18 | 1 | 1 | 18
Campus Infrastructure Interview-Counseling Center Staff Version | 18 | 1 | 1 | 18
Tennessee Lives Count 6-month Interview | 466 | 1 | 0.25 | 117
Total | 26,193 |  |  | 6,370

Written comments and recommendations concerning the proposed information collection should be sent by January 26, 2007 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: December 18, 2006.
Elaine Parry,
Acting Director, Office of Program Services.

[FR Doc. E6-22119 Filed 12-26-06; 8:45 am]

BILLING CODE 4162-20-P